TENNESSEE VALLEY AUTHORITY

Sunshine Act Meetings

TIME AND DATE: 9:00 a.m. CT on February 16, 2023.

PLACE: Marriott Shoals Conference Center, 10 Hightower Place, Florence, Alabama.

STATUS: Open.

MATTERS TO BE CONSIDERED:

Meeting No. 23-01

The TVA Board of Directors will hold a public meeting on February 16, 2023, at the Marriott Shoals Conference Center, 10 Hightower Place, Florence, Alabama.

The meeting will be called to order at 9:00 a.m. CT to consider the agenda items listed below. TVA management will answer questions from the news media following the Board meeting.

On February 15, at the Marriott Shoals Conference Center, the public may comment on any agenda item or subject at a board-hosted public listening session which begins at 2:00 p.m. CT and will last until 4:00 p.m. Preregistration is required to address the Board.

Agenda

1. Chair's Welcome

2. Report of the People and Governance Committee

A. Board Leadership

3. Report of the Operations and Nuclear Oversight Committee

4. Report of the External Stakeholders and Regulation Committee

5. Report of the Audit, Finance, Risk, and Cybersecurity Committee

6. Governance Item

A. Committee Assignments

7. Information Items

A. Arrangements With New Industrial Customers

B. Minutes of the November 10, 2022 Board Meeting

8. Report From President and CEO

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: February 9, 2023.
Edward C. Meade,
Agency Liaison.

[FR Doc. 2023-03223 Filed 2-10-23; 4:15 pm]

BILLING CODE 8120-08-P